DEPARTMENT OF HEALTH AND HUMAN SERVICES

Centers for Disease Control and Prevention

[Program Announcement 03108]

National Information Center for Traumatic Brain Injury; Notice of Availability of Funds

Application Deadline: July 30, 2003.

A. Authority and Catalog of Federal Domestic Assistance Number

This program is authorized under sections 391, 317, and 301 of the Public Health Service Act, (42 U.S.C. 280b, 241, and 247b). The Catalog of Federal Domestic Assistance number is 93.136.

B. Purpose

The Centers for Disease Control and Prevention (CDC) announces the availability of fiscal year 2003 funds for a cooperative agreement program for phasing in the development of a “one-call” national information center for traumatic brain injury. This program addresses the “Healthy People 2010” focus area of Injury and Violence Prevention.

The purpose of the program is to support the initial phase of development of a national information center that will provide persons with brain injury, their families, and agencies that serve them, with information on state-specific resources and services available to them. The “one-call” information center will include a national toll-free telephone number (800 number) with automatic down-links to telephone numbers of state and/or local agencies that can provide information about resources at the local level.

Measurable outcomes of the program will be in alignment with one or more of the following performance goals for the National Center for Injury Prevention and Control (NCIPC): (1) Increase the capacity of injury prevention and control programs to address the prevention of injuries and violence; (2) Monitor and detect fatal and non-fatal injuries; and (3) Conduct a targeted program of research to reduce injury-related death and disability.

C. Eligible Applicants

Applications may be submitted by:

• Public nonprofit organizations

• Private nonprofit organizations

• Universities

• Colleges

• Hospitals

• State and local governments or their bona fide agents (this includes the District of Columbia, the Commonwealth of Puerto Rico, the Virgin Islands, the Commonwealth of the Northern Mariana Islands, American Samoa, Guam, the Federated States of Micronesia, the Republic of the Marshall Islands, and the Republic of Palau)

• Faith-Based Organizations

• Community-Based Organizations

Note: Title 2 of the United States Code section 1611 states that an organization described in section 501(c)(4) of the Internal Revenue Code that engages in lobbying activities is not eligible to receive Federal funds constituting an award, grant or loan.

D. Funding

Availability of Funds

Approximately $250,000 of FY 2003 funds is expected to be available to fund one award. It is expected that the award will begin on or about September 15, 2003, and will be made for a 12-month budget period within a project period of up to three years. The funding estimate may change.

Continuation awards within an approved project period will be made on the basis of satisfactory progress as evidenced by required reports and the availability of funds.

Recipient Financial Participation

Matching funds are not required for this program.

E. Program Requirements

In conducting the activities to achieve the purpose of this program, the recipient will be responsible for the activities listed in 1. Recipient Activities, and CDC will be responsible for the activities in 2. CDC Activities.

1. Recipient Activities

(a) Prepare a proposed plan for all phases of development of a “one-call” national information center.

(b) Conduct the initial phase of development of such an information center, including the following:

(1) Development of a core set of basic resource materials to be made available to people who call the information center.

(2) Development of a telephone interview guide and protocol for providing information, for use by staff who will answer calls to the information center.

(3) Development of a data system for tracking of calls, including how many calls are received and the geographic distribution of the calls received by the information center.

(4) Development of a prototype of the “one-call” system to be implemented in two or more states.

(5) Pilot testing of the prototype of the “one-call” system in two or more states.

(c) Establish an external advisory committee for the “one-call” information center.

2. CDC Activities

(a) Provide technical advice and consultation on all aspects of recipient activities.

(b) Participate as ex-officio members of the “one-call” center advisory committee.

(c) Provide technical assistance for the development and maintenance of a “one call” national information center, including:

a. Technical assistance for the development of a core set of resource materials for distribution by the call center to those who call for information.

b. Technical assistance for the development of a telephone interview guide for those answering calls for information.

c. Technical assistance for the development of a data system to track the calls. This would include how many calls were received, geographic distribution of calls received, and information system.

d. Technical assistance for the development of the prototype “one-call” system for implementation in two or more states.

e. Assist with pilot testing in two or more states; and assist with evaluation and subsequent recommendations for improvement based on the pilot testing of the “one call” system.

F. Content

Applications

The Program Announcement title and number must appear in the application. Use the information in the Program Requirements, Other Requirements, and Evaluation Criteria sections to develop the application content. Your application will be evaluated on the criteria listed, so it is important to follow them in developing your program plan. The narrative should be no more than 32 double-spaced pages, printed on one side, with one-inch margins, and unreduced 12-point font.

The narrative should consist of:

1. Abstract

A one page abstract and summary of the proposed effort.

2. Background and Need

Application should describe the background and need for a “one-call” national information center for traumatic brain injury.

3. Methods

Describe activities required to implement the initial phase of development of a “one-call” national information center for TBI. Provide (a) goals and objectives for implementation; (b) timeline for implementation of activities that is logically sequenced. Describe the coordination of the center with other organizations that will participate and how this will occur. Include letters of support from all involved individuals and organizations.

4. Objectives

Describe long and short-term objectives, which are specific, measurable, attainable, and realistic. Process and outcome objectives should be designed to accomplish all activities of the program during the project period. The program plan should briefly address activities to be conducted over entire three-year project period.

5. Evaluation

Describe the evaluation to document program process and effectiveness in delivering information about traumatic brain injury resources and services. Document staff availability, expertise, and capacity to perform this evaluation.

6. Staff and Resources

Describe the responsibilities of the program coordinator and each of the other staff members responsible for carrying out the program, including experience, professional education, and time devoted to the program. A curriculum vita should be included for each critical staff member.

7. Budget

Include a detailed budget with accompanying narrative justifying all individual budgets that make up the total amount of funds requested. The budget should be consistent with the stated goals and objectives.

8. Performance Measures

Describe measures of effectiveness that will demonstrate the accomplishment of the various identified objectives of the cooperative agreement. Measures of effectiveness must relate to the performance goals stated in the purpose section of this announcement. Measures must be objective and quantitative and must measure the intended outcome.

G. Submission and Deadline

Application Forms

Submit the signed original and two copies of PHS 5161-1 (OMB Number 0920-0428). Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time and Address

The application must be received by 4 p.m. Eastern Time. Submit the application to: Technical Information Management—PA #03108, CDC Procurement and Grants Office, 2920 Brandywine Road, Atlanta, GA 30341-4146.

Applications may not be submitted electronically.

CDC Acknowledgment of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application against the following criteria:

1. Background and Need (25 percent)

The extent to which the applicant a) presents a clear understanding of the need for a “one-call” national information center for traumatic brain injury; b) demonstrates experience in developing and disseminating a wide range of information about traumatic brain injury at the national, state, and local levels; and c) demonstrates prior experience in implementing an (800) number to provide information about traumatic brain injury that is inclusive of diverse populations.

2. Staff and Resources (25 percent)

The extent to which the applicant can provide adequate facilities, staff and/or collaborators; including a full-time coordinator and resources to accomplish the proposed goal(s)and objectives during the project period. The extent to which the applicant demonstrates staff and/or collaborator availability, expertise, previous experience, and capacity to perform the undertaking successfully, including experience in implementing and managing a national level (800) number providing information about traumatic brain injury resources and services, and to deliver this information to diverse populations. The extent to which the applicant describes demonstrated capacity to ensure the sustainability of the “one-call” information center after it is established.

3. Methods (20 percent)

The extent to which the applicant provides a detailed description of all proposed activities and collaboration needed to achieve each objective and the overall program goal(s). The extent to which the applicant provides a reasonable logically sequenced and complete schedule for implementing all activities. The extent to which position descriptions, lines of command, and collaborations are appropriate to accomplishing the program goal(s) and objectives.

4. Objectives (15 percent)

The extent to which the applicant describes long and short-term objectives which are specific, measurable, attainable, and realistic and which are time-framed process and outcome objectives designed to accomplish all activities of the program.

5. Evaluation (10 percent)

The extent to which the proposed evaluation plan is detailed and capable of documenting program process and outcome measures. The extent to which the applicant demonstrates staff and/or collaborator availability, expertise, and capacity to perform the evaluation.

6. Performance Goals (5 percent)

The extent to which the applicant provides measures of effectiveness that will demonstrate the accomplishment of the various identified objectives of the cooperative agreement. Measures of effectiveness must relate to the performance goals stated in the purpose section of this announcement. Measures must be objective and quantitative and must measure the intended outcome.

7. Budget and Justification (not scored)

The extent to which the applicant provides a detailed budget and narrative justification consistent with the stated objectives and planned program activities.

I. Other Requirements

Technical Reporting Requirements

Provide CDC with original plus two copies of:

1. Interim progress report, no less than 90 days before the end of the budget period. The progress report will serve as your non-competing continuation application, and must contain the following elements:

a. Current Budget Period Financial Progress.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC Web site.

AR-7 Executive Order 12372 Review

AR-9 Paperwork Reduction Act Requirements

AR-10 Smoke-Free Workplace Requirements

AR-11 Healthy People 2010

AR-12 Lobbying Restrictions

AR-13 Prohibition on Use of CDC Funds for Certain Gun Control Activities

AR-14 Accounting System Requirements

AR-15 Proof of Non-Profit Status

J. Where to Obtain Additional Information

This and other CDC announcements, the necessary applications, and associated forms can be found on the CDC Web site, Internet address: http://www.cdc.gov.

Click on “Funding” then “Grants and Cooperative Agreements.”

For general questions about this announcement, contact: Technical Information Management, CDC Procurement and Grants Office, 2920 Brandywine Road, Atlanta, GA 30341-4146, Telephone: 770-488-2700.

For business management and budget assistance, contact: Angie Nation, Grants Management Specialist, Procurement and Grants Office, Centers for Disease Control and Prevention, 2920 Brandywine Road, Atlanta, GA 30341-4146, Telephone: 770-488-2719, E-mail address: aen4@cdc.gov.

For program technical assistance, contact: Stacy Harper, Centers for Disease Control and Prevention, National Center for Injury Prevention and Control, 4770 Buford Highway N.E., Mail stop F41, Atlanta, GA 30341-3724, Telephone: 770-488-4031, E-mail address: SLHarper@cdc.gov.

Dated: June 13, 2003.
Edward Schultz,
Acting Director, Procurement and Grants Office, Centers for Disease Control and Prevention.

[FR Doc. 03-15590 Filed 6-19-03; 8:45 am]

BILLING CODE 4163-18-P